DEPARTMENT OF JUSTICE

Notice of Lodging of Consent Decree Under the Comprehensive Environmental Response Compensation, and Liability Act, The Clean Water Act, and The Resource Conservation and Recovery Act

Under 28 CFR 50.7, notice is hereby given that on December 23, 1999, a proposed Consent Decree in United States and State of Idaho v. Union Pacific Railroad Co., Case No. 99-606-N-EJL (D. Idaho) and Coeur d'Alene Tribe v. Union Pacific Railroad Co., Case No. CV 91-0342-N-EJL (D. Idaho) was lodged with the United States District Court for the District of Idaho.

The Consent Decree settles claims by the United States, the State of Idaho, and the Coeur d'Alene Tribe (Tribe) asserts claims against Union Pacific Railroad Company (Union Pacific) under Sections 106 and 107 of the Comprehensive Environmental Response, Compensation, and Liability Act (CERCLA), 42 U.S.C. §§ 9606 and 9607, and Sections 311 of the Clean Water Act (CWA), 33 U.S.C. § 1321. The Complaint of the United States and the State seeks injunctive relief requiring Union Pacific to implement the non-time-critical removal action selected by EPA, the State and the Tribe, for most of Union Pacific's 71.5-mile-long railroad right of way between Mullan and Plummer, Idaho (the ROW) and certain adjacent areas (collectively the Project Area) in the Coeur d'Alene Basin in northern Idaho. The Plaintiffs' Complaints also seek past and future CERCLA response costs incurred by EPA, the Departments of the Interior (Interior) and Agriculture (Agriculture), the State, and the Tribe in connection with the Project Area and damages for injuries to natural resources throughout the Coeur d'Alene Basin.

The Consent Decree requires Union Pacific to implement the response action selected for the Project Area and specified additional work needed to convert the ROW into a biking/hiking trail for public use. The estimated total cost of this work is over $25 million. In addition, Union Pacific agrees to pay (1) the past response costs incurred by the United States, the State and the Tribe in connection with the negotiations and the Engineering Evaluation and Cost Analysis (EE/CA) needed to select the response action (approximately $600,000 for the United States); (2) $2,730,000 to the State and the Tribe, primarily for their expected future costs of maintaining public amenities along the biking/hiking trial; (3) $35,000 to fund educational activities to be conducted by Plaintiffs as part of the Response Action; (4) up to $25,000 per year for 10 years to the Tribe for costs it incurs for operation and maintenance of the Chatcolet Bridge; (5) the future response costs of all three governments for oversight of the removal action; and (6) $2,000,000 to Interior, Agriculture, and the Tribe for natural resource damages.

In exchange, Union Pacific will receive a covenant not to sue for response actions and costs relating to the Project Area (primarily the ROW) pursuant to Sections 106 and 107(a) of CERCLA, Section 311 of the CWA, and Section 7003 of RCRA. Union Pacific will also receive a covenant not to sue for natural resource damages under CERCLA and the CWA in the “Coeur d'Alene Basin Environment,” an area that includes the watersheds of both the North and South Forks of the Coeur d'Alene River, the main stem of the Coeur d'Alene River, Lake Coeur d'Alene.

The Department of Justice will receive for a period of thirty (30) days from the date of this publication comments relating to the Consent Decree. Comments should be addressed to the Assistant Attorney General of the Environment and Natural Resources Division, Department of Justice, Washington, D.C. 20530, and should refer to United States and State of Idaho v. Union Pacific Railroad Co., Case No. 99-606-N-EJL (D. Idaho), D.J. Ref. No. 90-11-3-128L. Commenters may request an opportunity for a public meeting in the affected area, in accordance with Section 7003(d) of RCRA, 42 U.S.C. § 6973(d).

The Consent Decree may be examined at the Office of the United States Attorney, First Interstate Center, 877 West Main Street, Suite 201, Boise, Idaho 83702 and at North Idaho College Library, 1000 West Garden Avenue, Coeur d'Alene, Idaho 83814. A copy of the Consent Decree may also be obtained by mail from the Department of Justice Consent Decree Library, P.O. Box 7611, Washington, D.C. 20044. In requesting a copy, please enclose a check in the amount of $255.75 (with exhibits) (25 cents per page reproduction cost) payable to the Consent Decree Library. If requesting a copy of the Consent Decree exclusive of exhibits, please enclose a check in the amount of $27.25 (25 cents per page reproduction cost) payable to the Consent Decree Library.

Joel M. Gross,
Chief, Environmental Enforcement Section, Environment and Natural Resources Division.

[FR Doc. 00-1269 Filed 1-19-00; 8:45 am]

BILLING CODE 4410-15-M